DEPARTMENT OF DEFENSE

Office of the Secretary

Notice of Intent To Grant an Exclusive License; Doar, Pekuin, Sall Limited Liability Company

AGENCY: National Security Agency, DoD.

ACTION: Notice.

SUMMARY: The National Security Agency hereby gives notice of its intent to grant Doar, Pekuin, Sall Limited Liability Company a revocable, non-assignable, exclusive, license to practice the following Government-Owned inventions as described in the following: U.S. Patent No. 5,656,552 entitled “Method of making a thin conformal high-yielding multi-chip module”; U.S. Patent No. 5,835,912 entitled “Method of efficiency and flexibility storing, retrieving, and modifying data in any language representation”; U.S. Patent No. 6,005,986 entitled “Method of identifying the script of a document irrespective of orientation”; U.S. Patent No. 6,070,175 entitled ” Method of file editing using framemaker enhanced by application programming interface clients”; U.S. Patent No. 6,144,189 entitled “Device for and method of switching and monitoring batteries”; U.S. Patent No. 6,298,144 entitled “Device for and method of detecting motion in an image”; U.S. Patent No. 6,391,744 entitled “Method of fabricating a non-SOI device on an SOI starting wafer and thinning the same”; U.S. Patent No. 6,493,366 entitled “Vertical cavity surface emitting laser with oxidized strain-compensated superlattice of group III-V semiconductor”; U.S. Patent No. 6,519,362 entitled “Method of extracting text present in a color image”; U.S. Patent No. 6,531,414 entitled “Method of oxidizing strain-compensated superlattice of group III-V semiconductor”; U.S. Patent No. 6,704,449 entitled “Method of extracting text from graphical images”; U.S. Patent No. 6,941,013 entitled “Method of image binarization using histogram modeling”; U.S. Patent No. 6,977,212 entitled “Fabricating a semiconductor device using fully cured bisbenzocyclobutene”; U.S. Patent No. 7,232,740 entitled “Method for bumping a thin wafer”; U.S. Patent No. 7,286,359 entitled “Use of thermally conductive vias to extract heat from microelectronic chips and method of manufacturing”; U.S. Patent No. 7,320,937 entitled “Method of reliably electroless-plating integrated circuit die,”; and U.S. Patent No. 7,351,608 entitled “Method of precisely aligning components in flexible integrated circuit module.”

The above-mentioned inventions are assigned to the United States Government as represented by the National Security Agency.

DATES: Anyone wishing to object to the grant of this license has fifteen (15) days from the date of this notice to file written objections along with any supporting evidence, if any.

ADDRESSES: Written objections are to be filed with the National Security Agency Technology Transfer Program, 9800 Savage Road, Suite 6541, Fort George G. Meade, MD 20755-6541.

FOR FURTHER INFORMATION CONTACT: Marian T. Roche, Director, Technology Transfer Program, 9800 Savage Road, Suite 6541, Fort George G. Meade, MD 20755-6541, telephone (443) 479-9569.

Dated: July 19, 2010.
Mitchell S. Bryman,
Alternate OSD Federal Register Liaison Officer, Department of Defense.

[FR Doc. 2010-17967 Filed 7-21-10; 8:45 am]

BILLING CODE 5001-06-P